NUCLEAR REGULATORY COMMISSION

[Docket No. 50-423]

Northeast Nuclear Energy Company, et al.; Notice of Withdrawal of Application for Amendment to Facility Operating License

The U.S. Nuclear Regulatory Commission (the Commission) has granted the request of Northeast Nuclear Energy Company (the licensee) to withdraw its March 2, 1999, application for proposed amendment to Facility Operating License No. NPF-49 for the Millstone Nuclear Power Station, Unit No. 3, located in New London County, Connecticut.

The proposed amendment would have revised the operability requirements for the service water pumps and their associated strainers.

The Commission had previously issued a Notice of Consideration of Issuance of Amendment published in the Federal Register on May 5, 1999, (64 FR 24198). However, by letter dated June 12, 2000, the licensee withdrew the proposed change.

For further details with respect to this action, see the application for amendment dated March 2, 1999, and the licensee's letter dated June 12, 2000, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 29th day of June 2000.
For the Nuclear Regulatory Commission.
Victor Nerses,
Sr. Project Manager, Section 2, Project Directorate I, Division of Licensing Project Management, Office of Nuclear Reactor Regulation.

[FR Doc. 00-18032 Filed 7-14-00; 8:45 am]

BILLING CODE 7590-01-P